ENVIRONMENTAL PROTECTION AGENCY

[EPA-HQ-OPPT-2021-0245; FRL-11924-01-OCSPP]

Agency Information Collection Activities; Proposed Renewal of an Existing ICR Collection and Request for Comment; EPA's Safer Choice Program Product and Partner Recognition Activities (Consolidation)

AGENCY: Environmental Protection Agency (EPA).

ACTION: Notice.

SUMMARY: In compliance with the Paperwork Reduction Act (PRA), this document announces the availability of and solicits public comment on the following Information Collection Request (ICR) that EPA is planning to submit to the Office of Management and Budget (OMB): “EPA's Safer Choice Program Product and Partner Recognition Activities (Consolidation),” identified by EPA ICR No. 2692.02 and OMB Control No. 2070-0221. This ICR represents a renewal of an existing ICR that is currently approved through May 31, 2025. Before submitting the ICR to OMB for review and approval under the PRA, EPA is soliciting comments on specific aspects of the information collection that is summarized in this document. The ICR and accompanying material are available in the docket for public review and comment.

DATES: Comments must be received on or before July 8, 2024.

ADDRESSES: Submit your comments, identified by docket identification (ID) number EPA-HQ-OPPT-2021-0245, through the Federal eRulemaking Portal at https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Katherine Sleasman, Mission Support Division (7602M), Office of Program Support, Office of Chemical Safety and Pollution Prevention, Environmental Protection Agency, 1200 Pennsylvania Ave., NW, Washington, DC 20460-0001; telephone number: (202) 566-1204; email address: sleasman.katherine@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: EPA's Safer Choice Program Product and Partner Recognition Activities (Consolidation).

EPA ICR No.: 2692.02.

OMB Control No.: 2070-0221.

ICR status: This ICR is currently approved through May 31, 2025. Under the PRA, an agency may not conduct or sponsor, and a person is not required to respond to, a collection of information, unless it displays a currently valid OMB control number. The OMB control numbers for EPA's regulations in title 40 of the Code of Federal Regulations (CFR), after appearing in the Federal Register when approved, are displayed either by publication in the Federal Register or by other appropriate means, such as on the related collection instrument or form, if applicable. The display of OMB control numbers for certain EPA regulations is consolidated in 40 CFR 9.

Abstract: This ICR renewal covers the information collection activities associated with the reporting and recordkeeping requirements for individuals, businesses, organizations, and government entities participating in or collaborating with EPA's Safer Choice and Design for the Environment (DfE) programs (referred to collectively as “the Safer Choice program” in this document unless otherwise indicated). This ICR also includes additional sections for the Safer Choice cleaning service certification and third-party profiler (TPP) solicitations. These components are designed to:

• Improve data efficiency by electronic data collection via a cloud-based Salesforce system called the Safer Choice Community;

• Monitor the public's awareness of the Safer Choice program and the Safer Choice label and DfE logo;

• Clarify the Safer Choice Partner of the Year Awards application process and form;

• Describe information collected through the new Safer Choice cleaning service certification program; and,

• Clarify the TPP application process and form.

Burden statement: The annual public reporting and recordkeeping burden for this collection of information is estimated to average of 17 to 58 hours per response. Burden is defined in 5 CFR 1320.3(b).

The ICR, which is available in the docket along with other related materials, provides a detailed explanation of the collection activities and the burden estimate that is only briefly summarized here:

Respondents/affected entities: Entities potentially affected are those that involve a wide range of sectors that participation in the Safer Choice Program including chemical manufactures, paint and coating manufacturing, mechant wholesalers, janitorial services, and environmental consulting firms. The ICR includes a list of potentially affected entities with North American Industrial Classification System (NAICS) codes provided to assist in determining potential applicability.

Respondent's obligation to respond: Voluntary.

EPA Form Numbers: 9600-017, 9600-018, 9600-019, 9600-020, 9600-021, 9600-022, 9600-023, 9600-058, 9600-059, 9600-60, 9600-061.

Frequency of response: On occasion.

Total estimated number of potential respondents: 4,539.

Total estimated average number of responses for each respondent: 1.

Total estimated annual burden hours: 4,511 hours.

Total estimated annual respondent costs: $854,358, which includes an estimated cost of $0 for capital investment or maintenance and operational costs.

III. Are there changes in the estimates from the last approval?

There is an increase of 1,279 hours in the total estimated respondent burden compared with that identified in the ICR currently approved by OMB. This change reflects increase in annual consumer online surveys, which increased from 2,000 to 4,000 annually, the inclusion of a new program, the “Safer Choice Cleaning Service Certification,” and the inclusion of the TPP solicitation process. These changes qualify as a program change.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: May 2, 2024.
Michal Freedhoff,
Assistant Administrator, Office of Chemical Safety and Pollution Prevention.

[FR Doc. 2024-10009 Filed 5-7-24; 8:45 am]

BILLING CODE 6560-50-P